DEPARTMENT OF HEALTH AND HUMAN SERVICES

42 CFR Part 36

Cancellation of the Meeting of the Negotiated Rulemaking Committee on Joint Tribal and Federal Self-Governance

AGENCY: Indian Health Service, HHS.

ACTION: Notice of Meeting Cancellation.

SUMMARY: On February 13, 2001, the Indian Health Service published a notice in the Federal Register announcing two meetings of the Negotiated Rulemaking Committee on Joint Tribal and Federal Self Governance (66 FR 10182, February 13, 2001). The first meeting, scheduled for February 27-28 in Washington, DC, is cancelled. The second meeting, scheduled for March 15-16 in San Diego, CA, will be held as planned at the Clarion Hotel Bay View, 660 K Street, San Diego, CA 92101, from 8:00 a.m.-5:00 p.m. each day.

FOR FURTHER INFORMATION CONTACT: Paula Williams, Director, Office of Tribal Self-Governance, Indian Health Service, 5600 Fishers Lane, Room 5A-55, Rockville, MD 20857, Telephone 301-443-7821. (This is not a toll-free number.)

Dated: February 22, 2001.
Michael H. Trujillo,
Assistant Surgeon General, Director.

[FR Doc. 01-4967 Filed 2-26-01; 12:37 pm]

BILLING CODE 4160-16-M